NUCLEAR REGULATORY COMMISSION

[Docket Nos. 50-280 And 50-281]

Virginia Electric and Power Company, Surry Power Station, Unit Nos. 1 and 2; Environmental Assessment and Finding of No Significant Impact

The U.S. Nuclear Regulatory Commission (NRC) is considering issuance of an amendment to revise the licensing basis for Facility Operating License Nos. DPR-32 and DPR-37, issued to Virginia Electric and Power Company (the licensee), for operation of the Surry Power Station, Unit Nos. 1 and 2 (Surry 1 and 2), located in Surry county, Virginia. Therefore, as required by 10 CFR 51.21, the NRC is issuing this environmental assessment and finding of no significant impact.

Environmental Assessment

Identification of the Proposed Action

The proposed action would authorize the licensee to revise the Updated Final Safety Analysis Report (UFSAR) to permit an increase in the irradiation of the Surry 1 and 2 fuel assemblies beginning with Surry 1 and 2 improved fuel (SIF) assemblies with ZIRLO cladding from a lead rod average burnup of 60,000 to 62,000 megawatt days (MWd)/metric tons of uranium (MTU). Since the burnup restriction is not explicitly stated in the Surry 1 and 2 license conditions or Technical Specifications, the licensee incorporated it into Section 3.5.2.6.1 of the Surry 1 and 2 UFSAR to ensure that the burnup limit is not exceeded when reload design evaluations are performed. The licensee will continue to apply the current burnup limit of 60,000 MWd/MTU for old fuel assemblies, if used, in the spent fuel pool with Zircaloy-4 cladding. In addition, the licensee will maintain the peak rod average burnup limits in the Surry 1 and 2 UFSAR.

The proposed action is in accordance with the licensee's application dated March 6, 2007.

The Need for the Proposed Action

The proposed action will allow the licensee to design reloads to a lead rod average burnup limit of 62,000 MWd/MTU, which has an appreciable economic benefit. The licensee states that “Recent reload patterns have been degraded at an economic penalty to maintain the burnup below the existing limit [60,000 MWd/MTU].”

Environmental Impacts of the Proposed Action

The NRC has completed its safety evaluation of the proposed action and concludes that SIF mechanical design, LOCA analysis, non-LOCA transient analyses, and the proposed UFSAR changes are acceptable to a peak rod average of 62,000 MWd/MTU. The NRC staff previously completed an environmental assessment of the effects of extending fuel burnup above 60,000 MWd/MTU through NUREG/CR-6703 (Agencywide Documents Access and Management System (ADAMS) Accession No. ML010310298), and determined that there are no significant adverse environmental impacts associated with extending peak-rod fuel burnup to 62,000 MWd/MTU. The environmental effects of extending Surry 1 and 2 lead rod average burnup limit to 62,000 MWd/MTU are also bounded by NUREG/CR-6703.

The details of the staff's safety evaluation will be provided in the license amendment that will be issued as part of the letter to the licensee approving the license amendment to the regulation.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic site. The proposed action does not result in any significant changes to land use or water use, or result in any significant changes to the quality or quantity of effluents. It does not affect non-radiological plant effluents and no changes to the National Pollution Discharge Elimination System permit are needed. No effects on the aquatic or terrestrial habitat in the vicinity of the plant, or to endangered or threatened species, or to the habitats of endangered or threatened species are expected, and has no other environmental impact, therefore, there are no significant non-radiological environmental impacts associated with the proposed action.

The proposed action will not change the method of generating electricity or the method of handling any effluents from the environment or non-radiological effluents to the environment. Therefore, no changes or different types of non-radiological environmental impacts are expected as a result of the proposed amendments.

Accordingly, the NRC concludes that there are no significant environmental impacts associated with the proposed action.

Environmental Impacts of the Alternatives to the Proposed Action

As an alternative to the proposed action, the staff considered denial of the proposed action (i.e., the “no-action” alternative). Denial of the application would result in no significant change in current environmental impacts. The environmental impacts of the proposed action and the alternative action are similar.

Alternative Use of Resources

The action does not involve the use of any different resources than those previously considered in the Final Environmental Statement for Surry 1 and 2, May and June 1972, respectively, and the supplemental environmental impact assessment for license renewal issued on November 30, 2002.

Agencies and Persons Consulted

In accordance with its stated policy, on November 27, 2007, the staff consulted with Mr. Les Foldesi, Director of the Bureau of Radiological Health, Commonwealth of Virginia, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 6, 2007 (ADAMS Accession No. ML070720620). Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 10th day of December 2007.
For the Nuclear Regulatory Commission.
Siva P. Lingam,
Project Manager, Plant Licensing Branch II-1, Division of Operating Reactor Licensing, Office of Nuclear Reactor Regulation.

[FR Doc. E7-24290 Filed 12-13-07; 8:45 am]

BILLING CODE 7590-01-P